INTERNATIONAL TRADE COMMISSION

[Investigation Nos. 704-TA-1 and 734-TA-1 (Review)]

Sugar from Mexico; Institution of Reviews of Agreements Suspending Antidumping Duty and Countervailing Duty Investigations

AGENCY: United States International Trade Commission.

ACTION: Notice.

SUMMARY: The Commission hereby gives notice of the institution of reviews pursuant to sections 704(h) and 734(h) of the Tariff Act of 1930 (19 U.S.C. 1671c(h) and 1673c(h)) (the Act) of suspension agreements that the United States Department of Commerce has entered in antidumping duty and countervailing duty investigations of sugar from Mexico. The Commission will determine whether the injurious effect of the subject merchandise is eliminated completely by the agreements. Under the statute, the Commission must issue determinations no later than 75 days after the date on which the petition for review was filed.

For further information concerning the conduct of these reviews and rules of general application, consult the Commission's Rules of Practice and Procedure, part 201, subparts A through E (19 CFR part 201), and part 207, subparts A and D (19 CFR part 207).

DATES: Effective Date: January 8, 2015.

FOR FURTHER INFORMATION CONTACT: Amy Sherman (202-205-3289), Office of Investigations, U.S. International Trade Commission, 500 E Street SW., Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (http://www.usitc.gov). The public record for these reviews may be viewed on the Commission's electronic docket (EDIS) at http://edis.usitc.gov.

SUPPLEMENTARY INFORMATION:

Background. These reviews are instituted in response to petitions filed on January 8, 2015, by Imperial Sugar Company (“Imperial”), Sugar Land, Texas and AmCane Sugar LLC (“AmCane”), Taylor, Michigan. The Commission has determined that Imperial and AmCane are interested parties who were parties to the underlying investigations at the time the petitions were filed, and consequently are appropriate petitioning parties.

Participation in the reviews and public service list. Persons wishing to participate in the reviews as parties must file an entry of appearance with the Secretary to the Commission, as provided in section 201.11 of the Commission's rules. Section 201.11 of the Commission's rules does not specify when entries of appearance must be filed in proceedings covered by part 207, subpart D; in these proceedings, entries of appearance will be considered timely if filed no later than 14 days after publication of this notice in the Federal Register. The Secretary will prepare a public service list containing the names and addresses of all persons, or their representatives, who are parties to these reviews upon the expiration of the period for filing entries of appearance.

Limited disclosure of business proprietary information (BPI) under an administrative protective order (APO) and BPI service list. Pursuant to section 207.7(a) of the Commission's rules, the Secretary will make BPI gathered in these reviews available to authorized applicants representing interested parties (as defined in 19 U.S.C. 1677(9)) who are parties to the reviews under the APO issued in the proceedings, provided that the application is made not later than 14 days after the publication of this notice in the Federal Register. A separate service list will be maintained by the Secretary for those parties authorized to receive BPI under the APO.

Written submissions. Parties will have the opportunity to file two written submissions in these reviews. The first submission may contain any factual information pertinent to the determinations that the Commission is required to make pursuant to sections 704(h) and 734(h) of the Act and arguments concerning the significance of this information, or information in the record of Sugar from Mexico, Inv. Nos. 701-TA-513 and 731-TA-1249 (Preliminary) (“the preliminary phase investigations”) to these determinations. The Commission is particularly interested in receiving parties' views concerning the following issues:

• What information the Commission should use to assess whether the injurious effect of the imports of the subject merchandise is eliminated completely by the suspension agreements

• The time period the Commission should evaluate in assessing whether the injurious effect of the imports of the subject merchandise is eliminated completely by the suspension agreements

• The standard the Commission should use to assess whether the injurious effect of imports of the subject merchandise is “eliminated completely”

• The use of the singular word “effect” in the statute and whether the Commission is permitted or required to assess any “effect” other than that resulting from pricing of the subject merchandise under the suspension agreements.

• Whether the Commission's analysis of “injurious effect” incorporates any analysis of injurious effect of imports of the subject merchandise caused by the suspension agreement itself.

Parties need not resubmit any information that is in the record of the preliminary phase investigations, as this information will be included in the record of these reviews. This first submission shall be filed no later than Tuesday, February 10, 2015.

The second submission should respond to arguments and information submitted in the first submissions as well as other information in the record. These submissions may contain no more than 20 pages of textual material, double-spaced and single-sided, when printed out on paper measuring 8.5 x 11 inches. They may also include an appendix which may contain responses to specific requests from Commissioners and staff. Aside from the material in the appendix, the second submission may not contain new factual information. This second submission shall be filed no later than Thursday, February 26, 2015.

If written submissions contain BPI, they must conform with the requirements of sections 201.6, 207.3, and 207.7 of the Commission's rules. Please consult the Commission's rules, as amended, 76 FR 61937 (Oct. 6, 2011) and the Commission's Handbook on Filing Procedures, 76 FR 62092 (Oct. 6, 2011), available on the Commission's Web site at http://edis.usitc.gov.

In accordance with sections 201.16(c) and 207.3 of the rules, each document filed by a party to the review must be served on all other parties to the review (as identified by either the public or BPI service list), and a certificate of service must be timely filed. The Secretary will not accept a document for filing without a certificate of service.

Opportunities for Oral Presentation: The Commission will convene a proceeding on Thursday, February 19, 2015, at 9:30 a.m. at 500 E Street SW., Washington, DC to receive oral presentations from parties to the reviews. The Commission will provide further information about the nature of this proceeding to the parties at a later date.

Authority: These reviews are being conducted under authority of title VII of the Tariff Act of 1930; this notice is published pursuant to section 207.12 of the Commission's rules.

Issued: January 21, 2015.
By order of the Commission.
Lisa R. Barton,
Secretary to the Commission.

[FR Doc. 2015-01264 Filed 1-23-15; 8:45 am]

BILLING CODE 7020-02-P